SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

Missing and Discrepant Wage Reports Letter and Questionnaire—26 CFR 31.6051-2-0960-0432. Each year employers report the wage amounts they paid their employees to the IRS for tax purposes, and separately to SSA for retirement and disability coverage purposes. These reported amounts should equal each other; however, each year some of the employer wage reports that SSA receives are less than the wage amounts reported to the IRS. SSA attempts to ensure that employees receive full credit for the wages that they have earned through the use of the forms SSA-L93-SM; SSA-L94-SM; SSA-95-SM and SSA-97-SM. Respondents are employers who reported less wage amounts to SSA than they reported to the IRS.

Type of Request: Revision of an OMB-approved information collection.

Number of Respondents: 360,000.

Frequency of Response: 1.

Average Burden per Response: 30 minutes.

Estimated Annual Burden: 180,000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Certificate of Responsibility for Welfare and Care of Child Not in Applicant's Custody—20 CFR 404.330, 404.339-341 and 404.348-404.349-0960-0019. SSA uses the information to determine if a non-custodial parent who is filing for Spouse's or Mother's and Father's benefits based on having a child in care meets the in-care requirements. Respondents are applicants for Spouse and/or Mother's and Father's benefits.

Type of Request: Extension of an OMB-approved information collection.

Number of Respondents: 14,000.

Frequency of Response: 1.

Average Burden per Response: 10 minutes.

Estimated Annual Burden: 2,333 hours.

2. Request for Waiver of Overpayment Recovery or Change in Repayment Notice—20 CFR 404.502-.513, 404.515 and 20 CFR 416.550-.570, 416.572—0960-0037. The SSA-632-BK is used by a beneficiary/claimant to request a waiver of recovery of an overpayment by explaining why they feel they are without fault in causing the overpayment and to provide financial circumstances so that SSA can determine whether recovery would cause financial hardship. It is also used to request a different rate of recovery. In those cases the financial information must be provided for SSA to determine how much the overpaid person can afford to repay each month. Respondents are overpaid beneficiaries or claimants who are requesting a waiver of recovery for overpayment or a lesser rate of withholding.

Type of Request: Extension of an OMB-approved information collection.

Number of Respondents: 500,000.

Estimated Annual Burden: 875,000 hours.

Reason for completing form | Number of respondents | Frequency of response | Average burden per response | Total annual burden
Request Waiver | 400,000 | 1 | 2 hours | 800,000
Request Change | 100,000 | 1 | 45 minutes | 75,000
Totals | 500,000 |  |  | 875,000

3. Supplemental Statement Regarding Farming Activities of Person Living Outside the U.S.A.—0960-0103. Form SSA-7163A is used whenever a beneficiary or claimant reports work on a farm outside the United States (U.S.). It is designed to obtain sufficient information to determine whether or not foreign work deductions are applicable to the claimant's benefits. Respondents are beneficiaries or claimants for Social Security benefits who are engaged in farming activity outside the U.S.

Type of Request: Extension of an OMB-approved information collection.

Number of Respondents: 1,000.

Frequency of Response: 1.

Average Burden per Response: 1 hour.

Estimated Annual Burden: 1,000 hours.

4. Disability Report-Appeal—20 CFR 404.1512, 416.912, 404.916(c), 416.1416(c), 405 Subpart C, 422.140—0960-0144. The SSA-3441-BK is used to secure updated medical and other information since the claimant's last disability determination from claimants who are appealing an unfavorable disability determination. This information may be used for reconsideration or request for federal reviewing official review of initial disability determinations and continuing disability reviews as well as a request for a hearing. This information assists the State Disability Determination Services, federal reviewing officials, and administrative law judges in preparing for appeals and hearings and in issuing a decision. Respondents are individuals who appeal denial of Social Security disability income and Supplemental Security Income (SSI) benefits, cessation of benefits, or who are requesting a hearing.

Type of Request: Revision of an OMB-approved information collection.

Estimated Annual Burden: 1,296,190 hours.

Collection method | Number of respondents | Frequency of response | Average burden per response (min) | Estimated annual burden hours
SSA-3441 (Paper Form) | 21,282 | 1 | 45 | 15,962
Electronic Disability Collect System (EDCS) | 1,284,019 | 1 | 45 | 963,014
I3441 (Internet Form) | 158,607 | 1 | 120 | 317,214
Totals | 1,463,908 |  |  | 1,296,190

5. Request for Hearing by Administrative Law Judge—20 CFR 404.929, 404.933, 416.1429, 404.1433, 405.722, 418.1350—0960-0269. The information collected on Form HA-501-U5 is used by SSA to document and initiate the Administrative Law Judge (ALJ) hearing process for determining eligibility or entitlement to Social Security benefits (Title II), Supplemental Security Income payments (Title XVI), Special Veterans Benefits (Title VIII), Medicare (Title XVIII), and of initial determinations regarding Medicare Part B income-related premium subsidy reductions. The methods for filing a request for an ALJ hearing are being expanded to include the internet. If an individual receives a notice of denial of his/her disability claim and the notice provides rights to an ALJ hearing, he/she will have the option of filing for the ALJ hearing over the internet. The individual will complete the appropriate appeal screens and submit the appeal to SSA for processing. The respondents are individuals filing for an ALJ hearing.

Type of Request: Revision of an OMB-approved information collection.

Number of Respondents: 669,469.

Estimated Annual Burden: 178,525 hours.

Collection method | Number of respondents | Frequency of response | Estimated completion time (min) | Total burden hours
Paper & Modernized Claims System | 334,735 | 1 | 10 | 55,789
i501 | 334,734 | 1 | 22 | 122,736
Totals | 669,469 |  |  | 178,525

6. Request for Earnings and Benefit Estimate Statement—20 CFR 404.810-0960-0466. SSA uses the information the requestor provides on Form SSA-7004 to identify his or her Social Security earnings record, extract posted earnings information, calculate potential benefit estimates, produce the resulting Social Security Statement and mail it to the requestor. Respondents are Social Security number holders requesting information about their Social Security earnings records and estimates of their potential benefits.

Type of Request: Extension of an OMB-approved information collection.

Number of Respondents: 545,000.

Frequency of Response: 1.

Average Burden per Response: 5 minutes.

Estimated Average Burden: 45,417 hours.

7. Employer Verification of Earnings After Death—20 CFR 404.821 and 404.822-0960-0472. The information collected on Form SSA L4112 is used by SSA to determine whether wages reported by an employer are correct and should be credited to the employee's Social Security number when SSA records indicate that the wage earner is deceased. The respondents are employers who report wages for a deceased employee.

Type of Request: Extension of an OMB-approved information collection.

Number of Respondents: 50,000.

Frequency of Response: 1.

Average Burden per Response: 10 minutes.

Estimated Annual Burden: 8,333 hours.

8. Appointment of Representative—20 CFR 404.1707, 404.1720, 404.1725, 410.684 and 416.1507-0960-0527. A person claiming a right or benefit under the Social Security Act must notify SSA in writing if he or she appoints an individual to represent him or her in dealing with SSA. The information collected by SSA on form SSA-1696-U4 is used to verify the applicant's appointment of a representative. It allows SSA to inform the representative of items which affect the applicant's claim, and it also allows the claimant to give permission to their appointed representative to designate a person to copy claims files. Respondents are applicants who notify SSA that they have appointed a person to represent them in their dealings with SSA when claiming a right to benefits and representatives of claimants for Social Security benefits.

Type of Request: Revision of an OMB-approved information collection.

Number of Respondents: 551,520.

Frequency of Response: 1.

Average Burden per Response: 10 minutes.

Estimated Annual Burden: 91,920 hours.

9. Request for Reconsideration—20 CFR 404.907-404.921, 416.1407-416.1421, 408.1009-0960-0622. The information collected on Form SSA-561-U2 is used by SSA to document and initiate the reconsideration process for determining eligibility or entitlement to Social Security benefits (Title II), Supplemental Security Income payments (Title XVI), Special Veterans Benefits (Title VIII), Medicare (Title XVIII), and of initial determinations regarding Medicare Part B income-related premium subsidy reductions. The methods for filing a request for reconsideration are being expanded to include the internet. If an individual receives a notice of denial of his/her disability claim and the notice provides the right to reconsideration, he/she will have the option of filing for the reconsideration over the internet. The individual will complete the appropriate appeal screens and submit the appeal to SSA for processing. The respondents are individuals filing for reconsideration.

Type of Request: Revision of an OMB-approved information collection.

Number of Respondents: 1,461,700.

Estimated Annual Burden: 341,064 hours.

Collection method | Number of respondents | Frequency of response | Estimated completion time (min) | Total burden hours
Paper & Modernized Claims System | 730,850 | 1 | 8 | 97,447
i561 | 730,850 | 1 | 20 | 243,617
Totals | 1,461,700 |  |  | 341,064

10. Statement for Determining Continuing Eligibility for Supplemental Security Income Payments—Adult, Form SSA-3988; Statement for Determining Continuing Eligibility for Supplemental Security Income Payments—Child, Form SSA-3989—20 CFR Subpart B—416.204-0960-NEW. Forms SSA-3988 and SSA-3989 will be used to determine whether SSI recipients have met and continue to meet all statutory and regulatory nonmedical requirements for SSI eligibility, and whether they have been and are still receiving the correct payment amount. The SSA-3988 and SSA-3989 are designed as self-help forms that will be mailed to recipients or to their representative payees for completion and return to SSA. The respondents are recipients of SSI payments or their representatives.

Type of Request: Revision of an OMB-approved information collection.

Number of Respondents: 60,000.

Estimated Annual Burden: 26,000 hours.

Collection instrument | Respondents | Frequency of response | Average burden per response (min) | Estimated annual burden (hours)
SSA-3988 | 30,000 | 1 | 26 | 13,000
SSA-3989 | 30,000 | 1 | 26 | 13,000
Totals | 60,000 |  |  | 26,000

11. Request for Program Consultation—20 CFR 404.1601-1661-0960 New.

The Disability Determination Services (DDS) offices are staffed by State employees who perform disability determinations for applicants for Social Security disability benefits under Title II and Title XVI of the Social Security Act. SSA's federal regional quality assurance office has the authority to review DDS determinations, to assess errors, and to return cases for corrective action by the DDS.

The information collected on the Request for Program Consultation (RPC) will be used by the DDS's that request a review of the regional quality assurance evaluations. The DDS's use the RPC to present their rationale that supports their determinations. The information collected includes a short rationale and policy citations supporting their rebuttal. The RPC team will use the information to reassess their initial determination. The respondents are DDS's who request a review of the regional quality assurance determination.

Type of Request: Request for a new information collection.

Number of Respondents: 4,500.

Frequency of Response: 1.

Average Burden per Response: 30 minutes.

Estimated Annual Burden: 2,250 hours.*

*SSA inadvertently cited an incorrect burden hour in the first FRN dated April 23, 2007 and the second FRN dated June 13, 2007. This notice serves as a correction.

Dated: June 21, 2007.
Elizabeth A. Davidson,
Reports Clearance Officer, Social Security Administration.

[FR Doc. E7-12357 Filed 6-26-07; 8:45 am]

BILLING CODE 4191-02-P